DEPARTMENT OF AGRICULTURE

Rural Utilities Service

7 CFR Part 1755

RUS Specification for Voice Frequency Loading Coils

AGENCY: Rural Utilities Service, USDA.

ACTION: Proposed rule.

SUMMARY: The Rural Utilities Service (RUS) proposes to amend its regulations on Telecommunications Standards and Specifications for Materials, Equipment and Construction, by rescinding the current issue of RUS Bulletin 345-22, RUS Specification for Voice Frequency Loading Coils, PE-26. This specification has become outdated because of advancements made in the delivery of telecommunications services to rural subscribers. This bulletin is incorporated by reference in RUS telecommunications regulations. Therefor, RUS is requesting public comments on this proposed rescission.

DATES: Comments concerning this proposed rule shall be received by RUS or be postmarked no later than April 1, 2002.

ADDRESSES: Comments should be mailed to Gerald F. Nugent, Jr., Director, Telecommunications Standards Division, Rural Utilities Service, U.S. Department of Agriculture, 1400 Independence Avenue, SW., STOP 1598, Washington, DC 20250-1598. RUS requests an original and three copies of all comments (7 CFR part 1700). All comments received will be made available for public inspection at room 2905, South Building, U.S. Department of Agriculture, 1400 Independence Avenue, SW., STOP 1598 Washington, DC between 8 a.m. and 4 p.m. (7 CFR 1.27(b)).

FOR FURTHER INFORMATION CONTACT: Charlie I. Harper, Jr., Chief, Outside Plant Branch, Telecommunications Standards Division, Rural Utilities Service, U.S. Department of Agriculture, 1400 Independence Avenue, SW., STOP 1598, Washington, DC 20250-1598, telephone (202) 720-0667.

SUPPLEMENTARY INFORMATION:

Executive Order 12866

This proposed rule is exempt from the Office of Management and Budget (OMB) review for the purposes of Executive Order 12866 and, therefore has not been reviewed by OMB.

Executive Order 12988

This proposed rule has been reviewed under Executive Order 12988, Civil Justice Reform. RUS has determined that this proposed rule meets the applicable standards provided in section 3 of that Executive Order. In addition, all State and local laws and regulations that are in conflict with this rule will be preempted, no retroactive effect will be given to this rule, and, in accordance with section 212(e) of the Department of Agriculture Reorganization Act of 1994 (7 U.S.C. 6912(e)), administrative appeal procedures, if any, must be exhausted before an action against the Department or its agencies may be initiated.

Regulatory Flexibility Act Certification

RUS has determined that this proposed rule will not have a significant economic impact on a substantial number of small entities, as defined by the Regulatory Flexibility Act (5 U.S.C. 601 et seq.). The RUS telecommunications program provides loans to borrowers at interest rates and on terms that are more favorable than those generally available from the private sector. RUS borrowers, as result of obtaining federal financing, receive economic benefits that exceed any direct economic costs associated with complying with RUS regulations and requirements. Small entities are not subjected to any requirement which are not applied equally to large entities.

Information Collection and Recordkeeping Requirements

This proposed rule contains no information collection or recordkeeping requirements under the Paperwork Reduction Act of 1995 (44 U.S.C. Chapter 35).

National Environmental Policy Act Certification

The Administrator of RUS has determined that this proposed rule will not significantly affect the quality of the human environment as defined by the National Environmental Policy Act of 1969 (42 U.S.C. 4321 et seq.). Therefore, this action does not require an environmental impact statement or assessment.

Catalog of Federal Domestic Assistance

The program described by this proposed rule is listed in the Catalog of Federal Domestic Assistance programs under No. 10.851, Rural Telephone Loans and Loan Guarantees, and No. 10.852, Rural Telephone Bank Loans. This catalog is available on a subscription basis from the Superintendent of Documents, the United States Government Printing Office, Washington, DC 20402-9325. Telephone (202) 512-1800.

Executive Order 12372

This proposed rule is excluded from the scope of Executive Order 12372, Intergovernmental Consultation, which may require consultation with State and local officials. See the final rule related notice entitled, “Department Programs and Activities Excluded from Executive Order 12372,” (50 FR 47034).

Unfunded Mandates

This proposed rule contains no Federal mandates (under the regulatory provision of Title II of the Unfunded Mandates Reform Act) for State, local, and tribal governments or the private sector. Thus, this proposed rule is not subject to the requirements of section 202 and 205 of the Unfunded Mandates Reform Act.

Background

RUS issues publications titled “bulletins” which serve to guide borrowers regarding already codified policy, procedures, and requirements needed to manage loans, loan guarantee programs, and the security instruments which provide for and secure RUS financing. RUS issues standards and specifications for construction of telecommunications facilities financed with RUS loan funds. After review of RUS's bulletin and specification issuances, RUS has decided to propose to rescind the outdated RUS Bulletin 345-22, RUS Specification for Voice Frequency Loading Coils, PE-26, issued January 19, 1989. RUS felt rescission was the best option for this bulletin and welcomes public comment. This bulletin is incorporated by reference at 7 CFR 1755.97.

RUS Bulletin 345-22, RUS Specification for Voice Frequency Loading Coils, PE-26, specifies the technical requirements for voice frequency loading coils that are used in aerial, direct burial, and underground plant installations. Since RUS borrowers are designing and constructing new plant facilities capable of handling both voice and data transmission which require that loop lengths be shorter than 18,000 feet, the installation of voice frequency loading coils in these new transmission facilities using these shorter loop lengths is no longer required. Therefore RUS is proposing to rescind this bulletin because of obsolescence.

List of Subjects in 7 CFR Part 1755

Loan programs-communications, Reporting and recordkeeping requirements, Rural areas, Telephone.

For reasons set out in the preamble, RUS proposes to amend Chapter XVII of title 7 of the Code of Federal Regulations as follows:

PART 1755—TELECOMMUNICATIONS STANDARDS AND SPECIFICATIONS FOR MATERIALS, EQUIPMENT AND CONSTRUCTION

1. The authority citation for part 1755 continues to read as follows:

Authority: 7 U.S.C. 901 et seq., 1921 et seq., 6941 et seq.

§ 1755.97 [Amended]

2. Section 1755.97 is amended by removing the entry “RUS Bulletin No. 345-22” from the table.

Dated: January 14, 2002.
Hilda Gay Legg,
Administrator, Rural Utilities Service.

[FR Doc. 02-2298 Filed 1-30-02; 8:45 am]

BILLING CODE 3410-15-P